DEPARTMENT OF THE INTERIOR

Fish and Wildlife Service

[FWS-R8-ES-2015-N155; FXES11130000-156-FF08E00000]

Endangered and Threatened Wildlife and Plants; Revised Draft Recovery Plan for the Giant Garter Snake

AGENCY: Fish and Wildlife Service, Interior.

ACTION: Notice of document availability.

SUMMARY: We, the U.S. Fish and Wildlife Service, announce the availability of the Revised Draft Recovery Plan for Giant Garter Snake for public review and comment. This revised draft recovery plan includes delisting objectives and criteria, and specific actions necessary to delist the species from the Federal Lists of Endangered and Threatened Wildlife and Plants. We request review and comment on this draft recovery plan from local, State, and Federal agencies, and the public.

DATES: We must receive any comments on this revised draft recovery plan on or before February 22, 2016.

ADDRESSES: You may obtain a copy of this revised draft recovery plan from our Web site at http://www.fws.gov/endangered/species/recovery-plans.html. Alternatively, you may contact the Sacramento Fish and Wildlife Office, U.S. Fish and Wildlife Service, 2800 Cottage Way, Suite W-2605, Sacramento, CA 95825 (telephone 916-414-6700).

FOR FURTHER INFORMATION CONTACT: Jennifer Norris, Field Supervisor, at the above street address or telephone number (see ADDRESSES).

SUPPLEMENTARY INFORMATION:

Background

Recovery of endangered or threatened animals and plants to the point where they are again secure, self-sustaining members of their ecosystems is a primary goal of our endangered species program and the Endangered Species Act of 1973, as amended (Act; 16 U.S.C. 1531 et seq.). Recovery means improvement of the status of listed species to the point at which listing is no longer appropriate under the criteria specified in section 4(a)(1) of the Act. The Act requires the development of recovery plans for listed species, unless such a plan would not promote the conservation of a particular species.

We listed the giant garter snake (Thamnophis gigas) as a threatened species on October 20, 1993 (58 FR 54053). Historical records suggest that the giant garter snake inhabited fresh water marshes, streams, and wetlands throughout the length of the Sacramento and San Joaquin Valleys in Central California. Today only about 5 percent of its historical wetland habitat acreage remains. The 13 populations identified at listing were isolated from one another with no protected dispersal corridors. Nine populations are recognized in this revised draft recovery plan, following an update of the 13 populations described in the original listing. This change is based on recent surveys, which indicate that two populations were extirpated, and on genetic research, which lead to the grouping together of some of the populations.

The giant garter snake has specific habitat needs that include summer aquatic habitat for foraging, bankside basking areas with nearby emergent vegetation for cover and thermal regulation, and upland refugia for extended periods of inactivity. Perennial wetlands provide the highest quality habitat for the giant garter snake, and rice lands, with interconnected water conveyance structures, serve as an alternative habitat in the absence of higher quality wetlands.

The loss and subsequent fragmentation of habitat is the primary threat to the giant garter snake throughout the Central Valley of California. Habitat loss has occurred from urban expansion, agricultural conversion, and flood control. Habitat fragmentation restricts dispersal and isolates populations of the giant garter snake, increasing the likelihood of inbreeding, decreasing fitness, and reducing genetic diversity, and ultimately has resulted in the loss of the snake from the southern one-third of its range in former wetlands associated with the historical Buena Vista, Tulare, and Kern Lake beds. In addition to habitat loss, the remaining Central Valley populations of the giant garter snake are subject to the cumulative effects of a number of other existing and potential threats, including: roads and vehicular traffic, climate change, and predation by non-native species.

Recovery Plan Goals

The purpose of a recovery plan is to provide a framework for the recovery of species so that protection under the Act is no longer necessary. A recovery plan includes scientific information about the species and provides criteria that enable us to gauge whether downlisting or delisting the species is warranted. Furthermore, recovery plans help guide our recovery efforts by describing actions we consider necessary for each species' conservation and by estimating time and costs for implementing needed recovery measures.

The goal of this revised draft recovery plan is to improve the status of giant garter snake so that it can be delisted. To meet the recovery goal of delisting, the following objectives have been identified:

1. Establish and protect self-sustaining populations of the giant garter snake throughout the full ecological, geographical, and genetic range of the species.

2. Restore and conserve healthy Central Valley wetland ecosystems that function to support the giant garter snake and its community members.

3. Ameliorate or eliminate, to the extent possible, the threats that caused the species to be listed or are otherwise of concern, and any foreseeable future threats.

The strategy used to recover the giant garter snake is focused on protecting existing occupied habitat and identifying and protecting areas for habitat restoration, enhancement, or creation, including areas that are needed to provide connectivity between populations. Appropriate management is needed for all giant garter snake conservation lands to ensure that stable and viable populations can be maintained in occupied areas, and that colonization will be promoted in restored and enhanced unoccupied habitat. As the giant garter snake meets delisting criteria, we will review its status and consider it for delisting on the Federal Lists of Endangered and Threatened Wildlife and Plants.

Public Comments Solicited

We solicit written comments on this revised draft recovery plan described in this notice. All comments received by the date specified in the DATES section will be considered in development of a final recovery plan for giant garter snake. You may submit written comments and information by mail or in person to the Sacramento Fish and Wildlife Office at the above address (see ADDRESSES).

Public Availability of Comments

Before including your address, phone number, email address, or other personal identifying information in your comment, you should be aware that your entire comment—including your personal identifying information—may be made publicly available at any time. While you can ask us in your comment to withhold your personal identifying information from public review, we cannot guarantee that we will be able to do so.

Authority

We developed this revised draft recovery plan under the authority of section 4(f) of the Act, 16 U.S.C. 1533(f). We publish this notice under section 4(f) of the Endangered Species Act of 1973, as amended (16 U.S.C. 1531 et seq.).

Alexandra Pitts,
Regional Director, Pacific Southwest Region, Sacramento, California.

[FR Doc. 2015-32108 Filed 12-21-15; 8:45 am]

BILLING CODE 4310-55-P